DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of Federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Zscan4, a Therapeutic Target for Cancer, Regenerative Medicine and Aging

Description of Invention: This technology has broad potential for the development of therapeutics for cancer, diseases of aging, and regenerative medicine, and targets Zscan4, a gene that regulates telomere length and genomic stability in embryonic stem (ES) cells.

The ability to maintain genomic stability in ES cells and other stem cells is critical for the development of stem cell-based therapies; genomic stability and telomere length are also active areas of cancer and aging research. NIA investigators have discovered that the Zscan4 gene regulates telomere length and genomic stability in ES cells, and plays an essential role in early embryonic development; this activity is independent of telomerase activity. The investigators have shown that ablation of Zscan4 results in shortened telomere length and deterioration of the karyotype of ES cells, and that Zscan4 overexpression increases telomere length.

This technology discloses methods for increasing genome stability or increasing telomere length in an ES cell, and methods of treating a subject in need of ES cell therapy. Also disclosed are methods of promoting blastocyst outgrowth of embryonic stem cells, as well as Zscan4 expression vectors and methods of identifying stem cells expressing Zscan4.

Applications

• Development of therapeutics for cancer treatment, aging, and regenerative medicine.

• Development of assisted reproduction technologies.

• Studies of early embryonic development.

Development Status: In vitro and in vivo studies have been performed.

Inventors: Minoru S. H. Ko et al. (NIA).

Publications

1. M Zalzman et al. Zscan4 regulates telomere elongation and genomic stability in ES cells. Nature 2010 Mar 24; advance online publication, doi 10.1038/nature08882.

2. G Falco et al. Zscan4: A novel gene expressed exclusively in late 2-cell embryos and embryonic stem cells. Dev Biol. 2007 Jul 15;307(2):539-550. [PubMed: 17553482.]

Patent Status

HHS Reference No. E-088-2007/0—

• PCT Application No. PCT/US2008/058261 filed 26 Mar 2008.

• US Application No. 12/529,004 filed 27 Aug 2009.

• Foreign counterparts in Europe, Australia, Canada, and Japan

HHS Reference No. E-172-2009/0—

• U.S. Provisional Application No. 61/275,983 filed 04 Sep 2009.

Licensing Status: Available for licensing.

Licensing Contact: Tara Kirby, PhD; 301-435-4426; tarak@mail.nih.gov.

Collaborative Research Opportunity: The National Institute on Aging, Laboratory of Genetics, is seeking statements of capability or interest from parties interested in collaborative research to further develop, evaluate, or commercialize this technology. Please contact Nicole Guyton, PhD at 301-435-3101 or darakn@mail.nih.gov for more information.

mFPR2 Transgenic and Knockout Mouse Models for Alzheimer's and Other Inflammatory Diseases

Description of Invention: Human Formyl Peptide-Like Receptor 1 (hFPLR1) has been implicated in host defense for disease processes including Alzheimer's disease, infection, and other inflammatory diseases. hFPLR1 and its mouse homologue Formyl Peptide Receptor 2 (mFPR2) are G-protein coupled receptors that are expressed at high levels on phagocytic leukocytes, mediating leukocyte chemotaxis and activation in response to a number of pathogen- and host-derived peptides. Activation of hFPRL1/mFPR2 by lipoxin A4 may play a role in preventing and resolving inflammation. Also, hFPRL1/mFPR2 has been shown to mediate the chemotactic activity of amyloid beta 1-42, a key pathogenic peptide in Alzheimer's disease.

Available for licensing are mice expressing the mFPR2 transgene on either the FVB or C58BL background, as well as mFPR2 knockout mice on the C57BL background. These mice are anticipated to be highly useful in the study of a wide variety of inflammatory, infectious, immunologic and neurodegenerative diseases.

Applications

• Drug development model for Alzheimer's disease and other inflammatory diseases.

• Tool to probe the role of hFPRL1/mFPR2 in host responses in a variety of disease processes, including inflammatory, infectious, immunologic, and neurodegenerative disease.

Inventors: Ji Ming Wang et al. (NCI)

Publications

1. K Chen, Y Le, Y Liu, W Gong, G Ying, J Huang, T Yoshimura, L Tessarollo, JM Wang. Cutting Edge: A Critical Role for the G Protein-Coupled Receptor mFPR2 in Airway Inflammation and Immune Responses. J Immunol. 2010 Mar 3. Epub ahead of print. [PubMed: 20200280.]

2. K Chen, P Iribarren, J Hu, J Chen, W Gong, EH Cho, S Lockett, NM Dunlop, and JM Wang. Activation of Toll-like receptor 2 on microglia promotes cell uptake of Alzheimer disease-associated amyloid beta peptide. J Biol Chem. 2006 Feb 10;281(6):3651-3659. [PubMed: 16339765.]

3. H Yazawa, ZX Yu, Takeda, Y Le, W Gong, VJ Ferrans, JJ Oppenheim, CC Li, and JM Wang. Beta amyloid peptide (Abeta42) is internalized via the G-protein-coupled receptor FPRL1 and forms fibrillar aggregates in macrophages. FASEB J. 2001 Nov;15(13):2454-2462. [PubMed: 11689470.]

4. YH Cui, Y Le, W Gong, P Proost, J Van Damme, WJ Murphy, and JM Wang. Bacterial lipopolysaccharide selectively up-regulates the function of the chemotactic peptide receptor formyl peptide receptor 2 in murine microglial cells. J Immunol. 2002 Jan 1;168(1):434-442. [PubMed: 11751990.]

Patent Status: HHS Reference No. E-303-2006/0—Research Tool. Patent protection is not being pursued for this technology.

Licensing Status: This technology is available as a research tool under a Biological Materials License.

Licensing Contact: Tara Kirby, PhD; 301-435-4426; tarak@mail.nih.gov.

Collaborative Research Opportunity: The National Cancer Institute—Frederick, Laboratory of Molecular Immunoregulation, is seeking statements of capability or interest from parties interested in collaborative research to further develop, evaluate, or commercialize mFPR2 Transgenic and Knockout Mouse Models for Alzheimer's and Other Inflammatory Diseases. Please contact John D. Hewes, PhD at 301-435-3121 or hewesj@mail.nih.gov for more information.

Dated: March 23, 2010.
Richard U. Rodriguez,
Director, Division of Technology Development and Transfer, Office of Technology Transfer, National Institutes of Health.

[FR Doc. 2010-6966 Filed 3-29-10; 8:45 am]

BILLING CODE 4140-01-P